DEPARTMENT OF HEALTH AND HUMAN SERVICES

[Document Identifier OS-0990-0331; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Evaluation of the Marriage and Family Strengthening Grants for Incarcerated and Reentering Fathers and their Partners—OMB No. 0990-0331 Revision— Assistant Secretary for Planning and Evaluation (ASPE).

Abstract: The Office of the Assistant Secretary for Planning and Evaluation (ASPE) is conducting an evaluation of a demonstration program called Marriage and Family Strengthening Grants for Incarcerated and Re-entering Fathers and their Partners (MFS-IP). This demonstration program, funded in 2006 by the Office of Family Assistance within the Administration for Children and Families (ACF), supports marriage strengthening and responsible fatherhood activities among incarcerated and recently released fathers, their partners, and children. The MFS-IP evaluation will assess the effects of these activities by comparing relationship quality and stability, positive family interactions, family financial well-being, recidivism, and community connectedness between intervention and control groups. Information from the evaluation will assist federal, state, and community policymakers and patrons in deciding whether to replicate or redesign identified marriage and family strengthening program models.

Primary data for the evaluation will come from three waves of in-person data collection collected from incarcerated and released fathers and their partners. Data will be collected through a baseline survey and follow-up surveys at approximately 9 and 18 months post-baseline in five sites. A fourth wave of data collection at approximately 34 months, will be collected in two of the five sites. Data collection for the entire evaluation is expected to last 6 years, from the time the first participant is enrolled until the last 34-month follow-up survey is administered. This three year renewal request covers data collection to complete the 9 month and 18 month follow-up surveys and for all of the 34 month follow-up surveys.

Estimated Annualized Burden Table
Forms | Type of respondent | Number of respondents | Number of responses per respondent | Average burden (in hours) per response | Annual burden
MFS-IP Follow-up Survey—Fathers (9 & 18 month) | Individuals | 321 | 1 | 1.5 | 481.5
MFS-IP Follow-up Survey—Partners (9 & 18 month) | individuals | 489 | 1 | 1.5 | 733.5
MFS-IP Follow-up Survey—Fathers (34 month) | Individuals | 463 | 1 | 1.5 | 694.5
MFS-IP Follow-up Survey—Partners (34 month) | Individuals | 463 | 1 | 1.5 | 694.5
Totals |  |  |  |  | 2604

Keith A. Tucker,
Paperwork Reduction Act Reports Clearance Officer, Office of the Secretary.

[FR Doc. 2011-29563 Filed 11-15-11; 8:45 am]

BILLING CODE 4150-05-P